DEPARTMENT OF HEALTH AND HUMAN SERVICES

Centers for Disease Control and Prevention

[Program Announcement 05048]

A Cooperative Agreement to Improve the Interaction Between Public Health Academicians and Public Health Practitioners; Notice of Intent to Fund Single Eligibility Award

A. Purpose

The Centers for Disease Control and Prevention (CDC) announces the intent to fund fiscal year (FY) 2005 funds for a cooperative agreement program to assist the Association of Schools of Public Health (ASPH) in improving the practice of public health and strengthening the public health system by: (1) Supporting public health programs and education within the nation's accredited schools of public health; (2) supporting information exchange with and among the nation's schools of public health; (3) increasing the interaction between public health academicians and practitioners; and (4) enhancing the preparation and continuing education of public health workers.

B. Eligible Applicant

The Association of Schools of Public Health (ASPH) is uniquely qualified to provide services specified under this cooperative agreement for the following reasons: ASPH is the only national organization representing the deans, faculty, and students of the accredited member schools of public health and other programs seeking accreditation as schools of public health. The 36 member schools are fully accredited by the Council on Education for Public Health (CEPH), and represent the primary educational system that trains personnel to operate the nation's public health agencies and administer disease prevention and health promotion programs. ASPH has the institutional knowledge required to address the needs of both the schools of public health and public health agencies.

As the nation's only representative of accredited schools of public health for over 50 years, and as liaison between the schools, government, other professional bodies, and the public, ASPH is uniquely qualified and positioned to: (a) Strengthen and support schools of public health and (b) bring together the fields of academic public health and practice. It works with various agencies of the federal government on projects aimed at strengthening public health education and research and the public health profession. It assists its member schools in the development and coordination of national health policies, and it serves as an information center for governmental and private groups and individuals whose concerns overlap those of higher education for public health. There is no other organization that provides this level of support to the nation's schools of public health for achievement of their education, service, and research missions.

C. Funding

Approximately $21,000,000 is available in FY 2005 to fund this award. It is expected that the award will begin on or before September 1, 2005, and will be made for a 12-month budget period within a project period of up to 5 years. Funding estimates may change.

D. Where to Obtain Additional Information

For general comments or questions about this announcement, contact: Technical Information Management, CDC Procurement and Grants Office, 2920 Brandywine Road, Atlanta, GA 30341-4146, Telephone: 770-488-2700.

For technical questions about this program, contact: John J. Rogers, Technical Review Administrator, The Coordinating Center for Health Information and Services (CoChis), 4770 Buford Hwy, Mailstop K38, Atlanta, GA 30341, Telephone: 770-488-2516, E-mail: JJRogers@cdc.gov.

Dated: January 28, 2005.
William P. Nichols,
Director, Procurement and Grants Office, Centers for Disease Control and Prevention.

[FR Doc. 05-2051 Filed 2-2-05; 8:45 am]

BILLING CODE 4163-18-P